DEPARTMENT OF THE INTERIOR

Bureau of Land Management

[LLWY-957400-09-L14200000-BJ0000-TRST]

Notice of Filing of Plats of Survey, Nebraska

AGENCY: Bureau of Land Management, Interior.

ACTION: Notice of Filing of Plats of Survey, Nebraska.

SUMMARY: The Bureau of Land Management (BLM) is scheduled to file the plat of survey of the lands described below thirty (30) calendar days from the date of this publication in the BLM Wyoming State Office, Cheyenne, Wyoming.

FOR FURTHER INFORMATION CONTACT: Bureau of Land Management, 5353 Yellowstone Road, P.O. Box 1828, Cheyenne, Wyoming 82003.

SUPPLEMENTARY INFORMATION: This survey was executed at the request of the Bureau of Indian Affairs and is necessary for the management of these lands. The lands surveyed are:

The plat and field notes representing the dependent resurvey of portions of the First Guide Meridian East, through T. 24 N., between Rs. 8 and 9 E., the east boundary, subdivisional lines and subdivision of certain sections, and the corrective dependent resurvey of a portion of the subdivisional lines and subdivision of section 22, and the survey of the subdivision of certain sections, Township 24 North, Range 9 East, of the Sixth Principal Meridian, Nebraska, was accepted April 13, 2009.

Copies of the preceding described plat are available to the public at a cost of $1.10 per page.

Dated: April 14, 2009.
John P. Lee,
Chief Cadastral Surveyor, Division of Support Services.

[FR Doc. E9-9003 Filed 4-17-09; 8:45 am]

BILLING CODE 4467-22-P